DEPARTMENT OF HEALTH AND HUMAN SERVICES

Administration for Children and Families

Submission for OMB Review; Comment Request

Title: Financial Status Reporting (SF-269) with Supplemental ADD-02 for State Councils on Developmental Disabilities.

OMB No.: 0980-0212.

Description: For the program of the State Council on Developmental Disabilities, funds are awarded to State Agencies contingent on fiscal requirements in Subtitle B of the Developmental Disabilities Assistance and Bill of Rights Act. The SF-269, mandated in the revised OMB Circular A-102, provides no accounting breakouts necessary for proper stewardship. The proposed supplement will allow compliance monitoring and proactive compliance maintenance and technical assistance.

Respondents: State Governments.

Annual Burden Estimates
Instrument | Number of respondents | Number of responses per respondent | Average burden hours per response | Total burden hours
ADD02 | 55 | 2 | 9 | 990
Estimated Total Annual Burden Hours |  |  | 9 | 990

Additional Information: Copies of the proposed collection may be obtained by writing to the Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, N.W., Washington, D.C. 20503, Attn: Desk Officer for ACF.

Dated: July 11, 2002.
Bob Sargis,
Reports Clearance Officer.

[FR Doc. 02-17942 Filed 7-16-02; 8:45 am]

BILLING CODE 4184-01-M